NUCLEAR REGULATORY COMMISSION

[Docket Nos. 50-254 and 50-265]

Exelon Generation Company, Inc. and MidAmerican Energy Company, Quad Cities Nuclear Power Station, Units 1 and 2; Notice of Withdrawal of Environmental Assessment

The U.S. Nuclear Regulatory Commission (the Commission) has granted the request of MidAmerican Energy Company (the licensee) to withdraw its November 21, 2003, application for exemption for the Quad Cities Nuclear Power Station, Units 1 and 2, located in Rock Island County, Illinois.

The proposed exemption would have allowed the licensee to delay meeting the requirements of 10 CFR 50.75(h)(2) past the effective date of December 24, 2003.

The Commission had previously issued an Environmental Assessment and Finding of No Significant Impact published in the Federal Register on December 19, 2003 (68 FR 70843), and December 22, 2003 (68 FR 71173), for the proposed exemption as required by 10 CFR 51.21. However, by letter dated December 18, 2003, the licensee withdrew the proposed change. Therefore, the Commission is withdrawing its previously issued Environmental Assessment and Finding of No Significant Impact.

For further details with respect to this action, see the request for exemption dated November 21, 2003, and the licensee's letter dated December 18, 2003, which withdrew the request for exemption. Documents may be examined, and/or copied for a fee, at the Nuclear Regulatory Commission's (NRC) Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS should contact the NRC PDR Reference staff by telephone at 1-800-397-4209, or 301-415-4737 or by e-mail to pdr@nrc.gov.

Dated at Rockville, Maryland, this 20th day of July 2004.
For the Nuclear Regulatory Commission.
Lawrence Rossbach,
Project Manager, Section 2, Project Directorate III, Division of Licensing Project Management, Office of Nuclear Reactor Regulation.

[FR Doc. 04-17034 Filed 7-26-04; 8:45 am]

BILLING CODE 7590-01-P